DEPARTMENT OF THE INTERIOR

National Park Service

Notice of Inventory Completion: U.S. Department of the Interior, National Park Service, San Juan Island National Historical Park, Friday Harbor, WA and Arizona State Museum, University of Arizona, Tucson, AZ

AGENCY: National Park Service, Interior.

ACTION: Notice.

Notice is here given in accordance with the Native American Graves Protection and Repatriation Act (NAGPRA), 25 U.S.C. 3003, of the completion of an inventory of human remains in the possession of the Arizona State Museum, University of Arizona, Tucson, AZ, and in the control of the U.S. Department of the Interior, San Juan Island National Historical Park, Friday Harbor, WA. The human remains were removed from a prehistoric archeological site within the boundaries of San Juan Island National Historical Park, San Juan County, WA.

This notice is published as part of the National Park Service's administrative responsibilities under NAGPRA, 25 U.S.C. 3003 (d)(3). The determinations in this notice are the sole responsibility of the superintendent, San Juan Island National Historical Park.

A detailed assessment of the human remains was made by the Arizona State Museum and San Juan Island National Historical Park professional staff in consultation with representatives of the Lummi Tribe of the Lummi Reservation, Washington; Samish Indian Tribe, Washington; and Swinomish Indians of the Swinomish Reservation, Washington.

In 1970, human remains representing a minimum of two individuals were removed from the English Camp Site (45-SJ-24) in San Juan County, WA, during University of Idaho field school excavations directed by Dr. Roderick Sprague. The human remains were loaned to the Arizona State Museum, University of Arizona for non-destructive osteological analysis by physical anthropologist Walter Birkby. Detailed University of Arizona, Physical Anthropology Laboratory data sheets were completed for both sets of remains in May 1974. No known individuals were identified. No associated funerary objects are present.

In 1995, the remains were listed on the Arizona State Museum NAGPRA inventory as culturally unidentifiable. In March 2005 National Park Service staff informed Arizona State Museum that the remains were in control of San Juan Island National Historical Park and should be included on the park's inventory. National Park Service staff also informed Arizona State Museum that cultural affiliation could be determined for these remains.

Based upon skeletal morphology, archeological data, geographic context and accession documents, the two individuals from the English Camp Site are of Native American ancestry. Arden King's analysis of archeological data from another site on San Juan Island resulted in the identification of three prehistoric phases, with the most recent representing a maritime adaptation that is ancestral to historic native populations in the United States and Canada. Archeological research and analysis indicates continuous habitation of San Juan Island from approximately 2,000 years ago through the mid-19th century. Recent analysis of shell middens at the English Camp Site by Professor Julie Stein of the University of Washington confirms site formation processes for a 2,000 year period. Anthropologist Wayne Suttles has identified the occupants of San Juan Island as Northern Straits language-speaking people, a linguistic subset of a larger Central Coast Salish population, who were ancestors of the Lummi Tribe of the Lummi Reservation, Washington. Furthermore, Suttles' anthropological research in the late 1940s confirmed that the Lummi primarily occupied San Juan Island and other nearby islands in the contact period and during the early history of the Lummi Reservation that was established on the mainland in 1855 through Article II of the Treaty of Point Elliott. San Juan Island is within the aboriginal territory of the Lummi Tribe of the Lummi Reservation, Washington. Lummi oral tradition, history and anthropological data clearly associate the Lummi with San Juan Island.

The National Park Service and the Arizona State Museum consulted with the Samish Indian Tribe, Washington of Anacortes, WA, and the Swinomish Indians of the Swinomish Reservation, Washington, of La Conner, WA, because of their potential cultural affiliation and their expressed interests in the human remains and associated funerary objects from San Juan Island at the Arizona State Museum, as well as in an inadvertent discovery of Native American human remains at San Juan Island National Historical Park in 2003. The Samish Indian Tribe, Washington is closely associated with the Lummi Tribe of the Lummi Reservation, Washington linguistically and culturally, and the Samish regard San Juan Island to be within the usual and accustomed territory shared by both tribes at the time of the Point Elliott Treaty negotiations in 1855. In 2006, the Samish Indian Tribe, Washington and the Lummi Tribe of the Lummi Reservation, Washington entered into a cooperative agreement to have the Lummi Tribe of the Lummi Reservation, Washington take the lead in receiving repatriated human remains and funerary objects from San Juan Island National Historical Park. The traditional territory of the Swinomish Indians of the Swinomish Reservation, Washington is on the mainland in the vicinity of La Conner, WA, on Whidbey Island and Fidalgo Island, the site of their reservation.

Officials of San Juan Island National Historical Park have determined that, pursuant to 25 U.S.C. 3001 (9-10), the human remains described above represent the physical remains of two individuals of Native American ancestry. Lastly, officials of San Juan Island National Historical Park have determined that, pursuant to 25 U.S.C. 3001 (2), there is a relationship of shared group identity that can be reasonably traced between the Native American human remains and the Lummi Tribe of the Lummi Reservation, Washington.

Representatives of any other Indian tribe that believes itself to be culturally affiliated with the human remains should contact Peter Dederich, superintendent, San Juan Island National Historical Park, P.O. Box 429, Friday Harbor, WA 98250-04289, telephone (360) 378-2240, before August 18, 2008. Repatriation of the human remains to the Lummi Tribe of the Lummi Reservation, Washington may proceed after that date if no additional claimants come forward.

San Juan Island National Historical Park is responsible for notifying the Lummi Tribe of the Lummi Reservation, Washington; Samish Indian Tribe, Washington; and Swinomish Indians of the Swinomish Reservation, Washington that this notice has been published.

Dated: June 10, 2008
Sherry Hutt,
Manager, National Park Service.

[FR Doc. E8-16463 Filed 7-17-08; 8:45 am]

BILLING CODE 4312-50-S